FEDERAL ELECTION COMMISSION

Notice of Sunshine Act Meetings

AGENCY: Federal Election Commission.

DATE AND TIME: Thursday, November 21, 2013 at 10:00 a.m.

PLACE: 999 E Street NW., Washington, DC (Ninth Floor).

STATUS: This meeting will be open to the public.

ITEMS TO BE DISCUSSED: Draft Advisory Opinion 2013-15: Conservative Action Fund.

Draft Advisory Opinion 2013-16: PoliticalRefund.org.

Draft Advisory Opinion 2013-17: Tea Party Leadership Fund.

Draft Interpretive Rule Re Date of Political Party Nominations of Candidates for Special Primary Elections in New York.

Management and Administrative Matters.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shelley E. Garr,
Deputy Secretary of the Commission.

[FR Doc. 2013-27742 Filed 11-15-13; 11:15 am]

BILLING CODE 6715-01-P